UNITED STATES SENTENCING COMMISSION

Request for Applications; Federal Public Defenders Advisory Group

AGENCY: United States Sentencing Commission.

ACTION: Notice.

SUMMARY: The Commission has decided to establish a Federal Public Defenders Advisory Group as a standing advisory group pursuant to 28 U.S.C. 995 and Rule 5.4 of the Commission's Rules of Practice and Procedure. Having adopted a formal charter for the Federal Public Defenders Advisory Group, the Commission is constituting the initial voting membership of the advisory group under that charter. Under the charter, the advisory group will consist of not more than 17 voting members. Of those 17 voting members, one shall be Chair, one shall be Vice Chair, 12 shall be circuit members (one for each federal judicial circuit other than the Federal Circuit), and three shall be at-large members. As indicated in the SUPPLEMENTARY INFORMATION section below, to be eligible to serve as a voting member, an individual must be an attorney (1) from a federal public defender organization or community defender organization; (2) with significant experience with federal sentencing or post convictions issues related to criminal sentences; and (3) in good standing of the highest court of the jurisdiction or jurisdictions in which he or she is admitted to practice. All voting members are selected and appointed by the Commission. Circuit members must be from a federal public defender organization or federal community defender organization located within the circuit they are appointed to represent. The Commission hereby invites any individual who is eligible to be appointed to the initial voting membership of the Federal Public Defenders Advisory Group to apply. Application materials should be received by the Commission not later than August 8, 2016. An applicant for voting membership of the Federal Public Defenders Advisory Group should apply by sending a letter of interest and resume to the Commission as indicated in the ADDRESSES section below.

DATES: Application materials for the initial voting membership of the Federal Public Defenders Advisory Group should be received not later than August 8, 2016.

ADDRESSES: An applicant for voting membership of the Federal Public Defenders Advisory Group should apply by sending a letter of interest and resume to the Commission by electronic mail or regular mail. The email address is pubaffairs@ussc.gov. The regular mail address is United States Sentencing Commission, One Columbus Circle NE., Suite 2-500, South Lobby, Washington, DC 20002-8002, Attention: Public Affairs.

FOR FURTHER INFORMATION CONTACT: Christine Leonard, Director, Office of Legislative and Public Affairs, (202) 502-4500, pubaffairs@ussc.gov. More information about the Federal Public Defenders Advisory Group (including the advisory group charter) is available on the Commission's Web site at http://www.ussc.gov/about/who-we-are/advisory-groups.

SUPPLEMENTARY INFORMATION: The United States Sentencing Commission is an independent agency in the judicial branch of the United States Government. The Commission promulgates sentencing guidelines and policy statements for federal sentencing courts pursuant to 28 U.S.C. 994(a). The Commission also periodically reviews and revises previously promulgated guidelines pursuant to 28 U.S.C. 994(o) and submits guideline amendments to the Congress not later than the first day of May each year pursuant to 28 U.S.C. 994(p). Under 28 U.S.C. 995 and Rule 5.4 of the Commission's Rules of Practice and Procedure, the Commission may create standing or ad hoc advisory groups to facilitate formal and informal input to the Commission. Upon creating an advisory group, the Commission may prescribe the policies regarding the purpose, membership, and operation of the group as the Commission deems necessary or appropriate.

The Commission recently adopted a formal charter for the Federal Public Defenders Advisory Group. Under the charter, the purpose of the advisory group is:

(1) To assist the Commission in carrying out its statutory responsibilities under 28 U.S.C. 994(o);

(2) to provide to the Commission its views on the Commission's activities and work, including proposed priorities and amendments;

(3) to disseminate to federal defenders, and to other professionals in public defender and community defender organizations, information regarding federal sentencing issues; and

(4) to perform other related functions as the Commission requests.

The Federal Public Defenders Advisory Group shall consist of no more than 17 voting members. Of those 17 voting members, one shall be Chair, one shall be Vice Chair, 12 shall be circuit members (one for each federal judicial circuit other than the Federal Circuit), and three shall be at-large members. To be eligible to serve as a voting member, an individual must be an attorney (1) from a federal public defender organization or community defender organization; (2) with significant experience with federal sentencing or post convictions issues related to criminal sentences; and (3) in good standing of the highest court of the jurisdiction or jurisdictions in which he or she is admitted to practice. All voting members are appointed by the Commission. Circuit members shall be selected from the circuit in which their respective federal public defender organizations or community defender organizations are located.

All voting members of the Federal Public Defenders Advisory Group shall serve not more than two consecutive three-year terms. However, the terms of the initial voting membership shall be staggered so that—

(1) the initial Chair shall serve a term of three years;

(2) the initial Vice Chair shall serve a term of two years;

(3) of the initial circuit members, 4 shall serve a term of three years, 4 two years, and 4 one year; and

(4) of the initial at-large members, 1 shall serve a term of three years, 1 two years, and 1 one year.

The Commission invites any individual who is eligible to be appointed to the initial voting membership of the Federal Public Defenders Advisory Group to apply by sending a letter of interest and a resume to the Commission as indicated in the ADDRESSES section above.

Authority: 28 U.S.C. 994(a), (o), (p), § 995; USSC Rules of Practice and Procedure 5.2, 5.4.

Patti B. Saris,
Chair.

[FR Doc. 2016-14384 Filed 6-16-16; 8:45 am]

BILLING CODE 2210-40-P